DEPARTMENT OF TRANSPORTATION

Federal Aviation Administration

Notice of Intent To Rule on Request To Release Airport Property at the Northeast Philadelphia Airport (PNE), Philadelphia, Pennsylvania

AGENCY: Federal Aviation Administration (FAA) DOT.

ACTION: Notice of request to release airport property for non-aeronautical purposes.

SUMMARY: The FAA proposes to rule and invite public comment on the release of land for non-aeronautical purposes at the Northeast Philadelphia Airport (PNE), Philadelphia, Pennsylvania.

DATES: Comments must be received on or before February 27, 2018.

ADDRESSES: Comments on this application may be mailed or delivered to the following address:

Raymond Scheinfeld, Environmental Manager, Division of Aviation, Philadelphia International Airport, Terminal D-E 3rd Floor Philadelphia, Pennsylvania 19153 and at the FAA Harrisburg Airports District Office:

Lori K. Pagnanelli, Manager, Harrisburg Airports District Office, 3905 Hartzdale Dr., Suite 508, Camp Hill, PA 17011.

FOR FURTHER INFORMATION CONTACT: Rick Harner, Civil Engineer, Harrisburg Airports District Office, location listed above.

The request to release property may be reviewed in person at this same location.

SUPPLEMENTARY INFORMATION: The FAA invites public comment on the request to release airport property for non-aeronautical purposes at the Northeast Philadelphia Airport (PNE) under the provisions of Section 47125(a) of Title 49 U.S.C. On November 6, 2017, the FAA determined that the request to release airport property for non-aeronautical purposes at the Northeast Philadelphia Airport (PNE), Pennsylvania, submitted by the City of Philadelphia, Department of Aviation, met the procedural requirements. Final release of the property is subject to FAA's NEPA determination made on August 11, 2017.

The following is a brief overview of the request:

The City requests the release of a portion of airport property totaling 8.36 acres, which is no longer needed for aeronautical purposes. The 8.36 acres were part of 54.432 acres known as Tract 4. This property is located off Academy Road in the City of Philadelphia, Philadelphia County and was originally purchased with federal funds under the Federal Aid for Airports Program (FAAP) Grant 9-36-040-5901. The 8.36 acres requested for non-aeronautical use are to be sold to UL Grant Avenue, LLC, to be used for retail development and a maintenance building for the adjacent Union League Golf Club. The property is located in the southeast portion of existing airport property and is currently vacant. As shown on PNE's approved Airport Layout Plan, the property does not serve a current aeronautical purpose and is not needed for current or future airport development. The proceeds from the Fair Market Value (FMV) sale of the 8.36 acres of property will be added to the airport's operating revenue or will be used for eligible airport development purposes, as outlined in FAA Order 5190.6B, Airport Compliance Manual.

Any person may inspect the request by appointment at the FAA office address listed above. Interested persons are invited to comment on the proposed release. All comments will be considered by the FAA to the extent practicable.

Issued in Camp Hill, Pennsylvania, on February 21, 2018.
Lori K. Pagnanelli,
Manager, Harrisburg Airports District Office.

[FR Doc. 2018-03954 Filed 2-26-18; 8:45 am]

BILLING CODE 4910-13-P